DEPARTMENT OF COMMERCE

National Telecommunications and Information Administration

[Docket No: 070920527-81110-02]

Low-Power Television and Translator Digital-to-Analog Conversion Program

AGENCY: National Telecommunications and Information Administration, Department of Commerce.

ACTION: Amendment to Notice of Availability of Funds.

SUMMARY: On October 29, 2007, the National Telecommunications and Information Administration (NTIA) published a notice in the Federal Register announcing the establishment of the Low-Power Television and Translator Digital-to-Analog Conversion Program (Conversion Program) and announcing $8 million in funds available for grants. Pursuant to the requirements of the DTV Transition Assistance Act, Public Law No. 110-295, NTIA has determined that the full funding amount is not necessary for the Conversion Program and herein announces the funds available for these grants to be $3.5 million. NTIA also announces certain changes in the application submission deadlines.

DATES: The deadline for applications is February 17, 2009. However, NTIA will not be able to guarantee the availability of funds for those applications submitted (postmarked) after November 17, 2008. For applications submitted (postmarked) on or after November 18, 2008, through February 17, 2009, NTIA will use no more than $1 million of any of the $3.5 million remaining after November 17, 2008 and will process applications on a first-come, first-served basis until the $1 million is exhausted.

FOR FURTHER INFORMATION CONTACT: William Cooperman, Broadcasting Division Director, at telephone (202) 482-5802; fax (202) 482-2156; e-mail wcooperman@ntia.doc.gov; or mail National Telecommunications and Information Administration, U.S. Department of Commerce, 1401 Constitution Avenue, NW., Room H-4812, Washington, DC 20230.

SUPPLEMENTARY INFORMATION:

The Low-Power Television and Translator Digital-to-Analog Conversion Program

Section 3008 of the Deficit Reduction Act of 2005 (Deficit Reduction Act), Public Law No. 109-171, 120 Stat. 4, 25-26 (2006), established the Low-Power Television and Translator Digital-to-Analog Conversion Program (Conversion Program) to assist low-power television stations so that they can continue analog broadcasting after the February 17, 2009 digital television transition of full-power television stations. The Deficit Reduction Act authorizes $10 million for NTIA to provide funding during fiscal years 2008 and 2009 to eligible low-power television stations so that they may purchase digital-to-analog conversion devices that enable them to convert the incoming digital signal of their corresponding full-power television station to analog format for transmission on the low-power stations' analog channel.

On October 29, 2007, NTIA published a notice in the Federal Register announcing the Conversion Program; establishing the eligibility criteria, application requirements, and award amounts for the program; and announcing the availability of $8 million for the grants.¹ NTIA also distributed information about the Conversion Program through postings on http://www.grants.gov maintained by the Office of Management and Budget and NTIA's Web site (http://www.ntia.doc.gov/lptv), through two mailings to each low-power television licensee, and through information disseminated at industry meetings by NTIA officials. As of July 31, 2008, NTIA had received applications from 749 low-power television facilities, including 689 applications from television translators, 50 applications from low-power television stations, and 10 applications from Class A television stations.

¹ See 72 FR 61109 (2007), also available on NTIA's Web site at: http://www.mtia.doc.gov/ntiahome/frnotices/2007/LPTVfund_102907.pdf.

The DTV Transition Assistance Act

On July 31, 2008, the DTV Transition Assistance Act (Assistance Act), Public Law No. 110-295, 122 Stat. 2972 (2008), was enacted. Section 2(a) of the Assistance Act amends Section 3008 of the Deficit Reduction Act to require NTIA to determine whether the full $10 million authorized for the Conversion Program will be needed to assist eligible low-power television stations.² The Assistance Act also provides that this determination may be adjusted from time to time.

² The Assistance Act authorizes NTIA to use the remaining amounts from the Conversion Program for consumer education and technical assistance regarding the digital television transition and the digital-to-analog converter box program authorized by section 3005 of the Deficit Reduction Act (TV Converter Box Coupon Program).

After reviewing the number of low-power stations potentially eligible for the Conversion Program; the number of requests received through July 31, 2008; and the number of facilities that have received authorizations from the Federal Communications Commission to upgrade to digital transmission via flash-cut, NTIA determined that the full funding amount will not be necessary for payments to eligible low-power television stations. NTIA has determined that $3.5 million should adequately cover the amounts needed for payments to eligible low-power television facilities under the Conversion Program. NTIA has also determined to reduce this amount three months prior to February 17, 2009, digital transition deadline.

Amendments to the Conversion Program

Current program guidance provides that NTIA will accept applications through February 17, 2009, the deadline provided in Section 3008 of the Deficit Reduction Act. To assure maximum effectiveness of the funding for both the Conversion Program and the TV Converter Box Coupon Program, NTIA believes that the application process for the Conversion Program should be expedited. Therefore, to encourage earlier submission of Conversion Program applications, NTIA will make the full $3.5 million available for payment to eligible low-power facilities for those applications submitted (postmarked) by November 17, 2008. For applications submitted (postmarked) on or after November 18, 2008, through February 17, 2009, NTIA will use no more than $1 million of any of the $3.5 million remaining after November 17, 2008 and will process applications on a first-come, first-served basis until the $1 million is exhausted. All other application requirements and procedures contained in the October 29, 2007, Federal Register Notice remain in effect.

Executive Order 12866. This action has been determined to be not a significant regulatory action under Executive Order 12866.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

Bernadette McGuire-Rivera,
Associate Administrator, Office of Telecommunications Applications.

[FR Doc. E8-19992 Filed 8-27-08; 8:45 am]

BILLING CODE 3510-60-P